DEPARTMENT OF COMMERCE

National Oceanic and Atmospheric Administration

RIN 0648-XD804

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Ecosystem Based Fishery Management Committee to consider actions affecting New England fisheries in the exclusive economic zone (EEZ). Recommendations from this group will be brought to the full Council for formal consideration and action, if appropriate.

DATES: This meeting will be held on Monday, March 30, 2015 at 1 p.m. and Tuesday, March 31, 2015 at 8:30 a.m.

ADDRESSES: The meeting will be held at the Holiday Inn by the Bay, 88 Spring Street, Portland, ME 04101; telephone: (207) 775-2311; fax: (207) 772-4017

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Oversight Committee will evaluate available procedures to develop and implement Ecosystem Based Fisheries Management (EBFM) policy, based on a staff discussion document. To provide feedback to the EBFM Plan Development Team, the committee will discuss progress on developing scientific advice on modifying the Atlantic herring Acceptable Biological Catch control rule in Draft Amendment 8 to account for forage considerations and herring's role in the ecosystem. Finally, the committee will develop a letter commenting on NOAA Fisheries Draft Climate Strategy (documents available at http://www.nefmc.org/library/briefing-on-noaa-fisheries-draft-climate-science-strategy).

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 6, 2015.
Tracey L. Thompson,
Acting Deputy Director, Office of Sustainable Fisheries, National Marine Fisheries Service.

[FR Doc. 2015-05587 Filed 3-11-15; 8:45 am]

BILLING CODE 3510-22-P